DEPARTMENT OF HEALTH AND HUMAN SERVICES

Administration for Children and Families

Statement of Organization, Functions and Delegation of Authority

Notice is hereby given that I delegate to the Assistant Secretary for Children and Families, with authority to redelegate to the Director, Office of Refugee Resettlement, which may be further redelegated, the following authority vested in the Secretary under the Trafficking Victims Protection Act of 2000, Pub. L. 106-386, 114 Stat. 1464 (2000).

(a) Authority Delegated. Authority to conduct certification activities under the Trafficking Victims Protection Act of 2000, Pub. L. 106-386, section 107(b)(1), 114 Stat. 1464, 1475 (2000). In exercising this authority, personnel in the Administration for Children and Families will consult with the Attorney General.

(b) Effect on Existing Delegations. None.

(c) This delegation shall be exercised under the Department's existing delegation of authority and policy on regulations. This delegation of authority is effective upon date of signature. In addition, I hereby affirm and ratify any actions taken by the Assistant Secretary for Children and Families or any other Administration for Children and Families official which, in effect, involved the exercise of these authorities prior to the effective date of these delegations.

Dated: March 28, 2001.
Tommy G. Thompson,
Secretary.

[FR Doc. 01-8766 Filed 4-9-01; 8:45 am]

BILLING CODE 4184-01-M